FEDERAL COMMUNICATIONS COMMISSION

47 CFR Part 73

[DA 03-776; MB Docket No. 03-69, RM-10664; MB Docket No. 03-70, RM-10670; MB Docket No. 03-71, RM-10665]

Radio Broadcasting Services; Carrizozo, NM; Knoxville, IL; and Nantucket, MA

AGENCY: Federal Communications Commission.

ACTION: Proposed rule.

SUMMARY: This document proposes three allotments in Carrizozo, New Mexico, Knoxville, Illinois, and Nantucket, Massachusetts. The Commission requests comment on a petition filed by Douglas Bennett proposing the allotment of Channel 261C2 at Carrizozo, New Mexico, as the community's first local service. Channel 261C2 can be allotted to Carrizozo in compliance with the Commission's minimum distance separation requirements with a site restriction of 20.9 km (13 miles) southeast of Carrizozo. The coordinates for Channel 261C2 at Carrizozo are 33-28-30 North Latitude and 105-46-18 West Longitude. The proposed allotment will require concurrence by Mexico because it is located within 320 kilometers (199 miles) of the Mexican border. See Supplementary Information infra.

DATES: Comments must be filed on or before May 5, 2003, and reply comments on or before May 20, 2003.

ADDRESSES: Federal Communications Commission, Washington, DC 20554. In addition to filing comments with the FCC, interested parties should serve the petitioner as follows: Douglas Bennett, 13238 Regency Forest, San Antonio, Texas 78249; and Paul B. Christensen, Law Offices of Paul B. Christensen, P.A., 3749 Southern Hills Drive, Jacksonville, Florida 32225.

FOR FURTHER INFORMATION CONTACT: Deborah A. Dupont, Media Bureau (202) 418-7072.

SUPPLEMENTARY INFORMATION: This is a synopsis of the Commission's Notice of Proposed Rule Making, MB Docket Nos. 03-69, 03-70, and 03-71; adopted March 12, 2003 and released March 14, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893.

The Commission further requests comment on a petition filed by Paul B. Christensen proposing the allotment of Channel 291A at Knoxville, Illinois, as the community's second local FM service. Channel 291A can be allotted to Knoxville in compliance with the Commission's minimum distance separation requirements without site restriction at center city reference coordinates. The coordinates for Channel 291A at Knoxville are 40-54-23 North Latitude and 90-17-08 West Longitude.

The Commission further requests comment on a petition filed by Paul B. Christensen proposing the allotment of Channel 249A at Nantucket, Massachusetts, as the community's second local FM service. Channel 249A can be allotted to Nantucket in compliance with the Commission's minimum distance separation requirements without site restriction at center city reference coordinates. The coordinates for Channel 249A at Nantucket are 41-16-54 North Latitude and 70-06-06 West Longitude.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1.The authority citation for Part 73 continues to read as follows:

Authority: 47 U.S.C. 154, 303, 334 and 336.

§ 73.202 [Amended]

2. Section 73.202(b), the Table of FM Allotments under Illinois, is amended by adding Channel 291A at Knoxville.

3. Section 73.202(b), the Table of FM Allotments under Massachusetts, is amended by adding Channel 249A at Nantucket.

2. Section 73.202(b), the Table of FM Allotments under New Mexico, is amended by adding Carrizozo, Channel 261C2.

Federal Communications Commission.
John A. Karousos,
Assistant Chief, Audio Division, Media Bureau.

[FR Doc. 03-7466 Filed 3-27-03; 8:45 am]

BILLING CODE 6712-12-P